FEDERAL COMMUNICATIONS COMMISSION

47 CFR Part 64

[WC Docket No. 04-36, CG Docket No. 03-123, WT Docket No. 96-198 and CC Docket No. 92-105; DA 07-4178]

IP-Enabled Services; Implementation of Sections 255 and 251(a)(2) of The Communications Act of 1934, as Enacted by The Telecommunications Act of 1996: Access to Telecommunications Service, Telecommunications Equipment and Customer Premises Equipment by Persons With Disabilities; Telecommunications Relay Services and Speech-to-Speech Services for Individuals With Hearing and Speech Disabilities; The Use of N11 Codes and Other Abbreviated Dialing Arrangements

AGENCY: Federal Communications Commission.

ACTION: Final rule; petition for waiver.

SUMMARY: In this document, the Commission grants in part and denies in part petitions filed by the Voice on the Net (VON) Coalition, United States Telecom Association (USTelecom) and Hamilton Telephone Company (Hamilton) seeking a stay or waiver of certain aspects of the Commission's Voice Over Internet Protocol (VoIP) Telecommunications Relay Services (TRS) Order (VoIP TRS Order). The Commission recognizes that, in certain circumstances, there are technical challenges to the ability of interconnected VoIP providers to route 711 abbreviated TRS dialing access calls to an “appropriate relay center,” as that term is clarified herein. Similarly, the Commission recognizes that, in certain circumstances, TRS providers receiving 711 emergency calls via an interconnected VoIP service may not be able to determine an appropriate public safety answering point (PSAP) to call in compliance with the TRS emergency call handling requirements. As a result, the Commission finds good cause to grant to interconnected VoIP providers a limited, six month waiver of the requirement that they route 711 calls to an appropriate relay center. The Commission also finds good cause to grant for a period of six months a limited waiver of the TRS emergency call handling requirements, as applied to interconnected VoIP customers, so that TRS providers can implement a means of directing the outbound leg of a 711 call received via an interconnected VoIP service to an appropriate PSAP.

DATES: Effective October 9, 2007.

ADDRESSES: Federal Communications Commission, 445 12th Street, SW., Washington, DC 20554.

FOR FURTHER INFORMATION CONTACT: Lisa Boehley, Consumer and Governmental Affairs Bureau at (202) 418-7395 (voice), or e-mail: Lisa.Boehley@fcc.gov.

SUPPLEMENTARY INFORMATION: This document does not contain new or modified information collection requirements subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4). On June 15, 2007, the Commission released the VoIP TRS Order, published at 72 FR 43546, August 6, 2007, WC Docket No. 04-36, CG Docket No. 03-123, WT Docket No. 96-198 and CC Docket No. 92-105, FCC 07-110.

This is a summary of the Commission's order in document DA 07-4178, IP-Enabled Services; Implementation of Sections 255 and 251(a)(2) of The Communications Act of 1934, as Enacted by The Telecommunications Act of 1996: Access to Telecommunications Service, Telecommunications Equipment and Customer Premises Equipment by Persons with Disabilities; Telecommunications Relay Services and Speech-to-Speech Services for Individuals with Hearing and Speech Disabilities; The Use of N11 Codes and other Abbreviated Dialing Arrangements, WC Docket No. 04-36, CG Docket No. 03-123, WT Docket No. 96-198 and CC Docket No. 92-105, adopted October 9, 2007, released October 9, 2007. Document DA 07-4178 also contains a separate public notice seeking comment on the petitions for stay or waiver filed by the VON Coalition, USTelecom, and Hamilton. The full text of document DA 07-4178 and copies of any subsequently filed documents in this matter will be available for public inspection and copying during regular business hours at the FCC Reference Information Center, Portals II, 445 12th Street, SW., Room CY-A257, Washington, DC 20554. Document DA 07-4178 and copies of subsequently filed documents in this matter may also be purchased from the Commission's duplicating contractor at Portals II, 445 12th Street, SW., Room CY-B402, Washington, DC 20554. Customers may contact the Commission's duplicating contractor at its Web site: http://www.bcpiweb.com or call 1-800-378-3160. To request materials in accessible formats for people with disabilities (Braille, large print, electronic files, audio format), send an e-mail to fcc504@fcc.gov or call the Consumer and Governmental Affairs Bureau at (202) 418-0530 (voice), (202) 418-0432 (TTY). Document DA 07-4178 can also be downloaded in Word or Portable Document Format (PDF) at: http://www.fcc.gov/cgb/dro/headlines.html.

Synopsis

In the VoIP TRS Order, the Commission required interconnected VoIP providers to offer 711 abbreviated dialing access to TRS “to ensure that TRS calls can be made from any telephone, anywhere in the United States, and that such calls will be properly routed to the appropriate relay center.” In document DA 07-4178, the Commission clarifies that, in requiring an interconnected VoIP provider to route 711 calls to the “appropriate relay center,” the Commission intended to signify the relay center(s) serving the state in which the caller is geographically located, or the relay center(s) corresponding to the caller's last registered address. The Commission concludes that this is the most natural interpretation of the term “appropriate relay center” in the context where a 711 call is being transmitted via an interconnected VoIP service as a substitute for the public switched telephone network (PSTN). Clarifying “appropriate relay center” in this manner is also essential to ensuring that TRS providers can make the outbound leg of the TRS call to an “appropriate PSAP.”

Nevertheless, the Commission recognizes that, in certain circumstances, the telephone number associated with a VoIP call will not correspond to the geographic location of the caller. In light of these technical challenges to the ability of interconnected VoIP providers to route 711 calls to an appropriate relay center, the Commission finds good cause to grant a limited waiver of the 711 call handling requirement for interconnected VoIP providers. Although interconnected VoIP providers are required to transmit 711 calls to a relay center, the Commission waives the requirement for a period of six months insofar as it requires them to transmit the 711 call to an appropriate relay center, as clarified above. In doing so, the Commission denies the VON Coalition and USTelecom requests to the extent they seek such relief for a longer period of time. The Commission agrees with the Coalition of Organizations for Accessible Technology (COAT) that “a brief extension of time for each of these requests may be merited,” but that “a two year extension of the FCC's deadline on this matter, one which can affect the life, safety and health of people who rely on TRS for emergency access * * * is not in the public interest.” The Commission thus grants a limited waiver so that interconnected VoIP providers can implement a means of routing 711 calls, in all cases, to an appropriate relay center.

Similarly, the Commission recognizes that, in certain circumstances, TRS providers receiving 711 emergency calls via an interconnected VoIP service may not be able to determine an appropriate PSAP to call in compliance with the TRS emergency call handling requirements of § 64.604(a)(4) of the Commission's rules. Section 64.604(a)(4) of the Commission's rules requires TRS providers to use a system for incoming emergency calls that “automatically and immediately” routes the outbound leg of a TRS call to an appropriate PSAP. Based on the record before the Commission, however, it appears that, under certain circumstances, TRS providers receiving a call via an interconnected VoIP service may be unable to call an appropriate PSAP to respond to an emergency call. Moreover, it appears that certain TRS providers may be unable to access and/or connect to a national database of PSAPs in the event that a TRS provider receives an emergency 711 call from an out-of-state caller, making impossible the automatic routing of such a call to an appropriate PSAP. For these reasons, the Commission grants TRS providers in this situation a limited, six month waiver of the emergency call handling requirements of § 64.604(a)(4) of the Commission's rules insofar as, despite their best efforts, they may not be able to make the outbound call to an appropriate PSAP that corresponds to the caller's actual location.

During the pendency of this waiver, the Commission requires a TRS provider that cannot automatically and immediately route to an appropriate PSAP the outbound leg of an emergency 711 call placed via TTY by an interconnected VoIP user, as required by § 64.604(a)(4) of the Commission's rules, to implement a manual system for doing so, to the extent feasible, that accomplishes the proper routing of emergency 711 calls as efficiently as possible. Further, during this waiver period, the Commission requires interconnected VoIP providers and traditional TRS providers to take steps to remind individuals with hearing or speech disabilities to dial 911 directly (as a text-to-text, TTY-to-TTY call) in an emergency, whether using a PSTN-based service or interconnected VoIP service, rather than making a TRS call via 711 in an emergency. Finally, for the reasons discussed above in limiting the duration of the waiver of the Commission's 711 call handling requirements for interconnected VoIP providers, the Commission believes that the public interest dictates that it limits this waiver relief for TRS providers to a period of six months.

Congressional Review Act

The Commission will not send a copy of document DA 07-4178 in a report to be sent to Congress and the Government Accountability Office pursuant to the Congressional Review Act, see 5 U.S.C. 801(a)(1)(A), because the document is not amending or revising the Commission's existing rules.

Ordering Clauses

Pursuant to Sections 1, 2, and 225 of the Communications Act of 1934, as amended, 47 U.S.C. 151, 152, and 225, and Sections 0.141, 0.361, and 1.3 of the Commission's rules, 47 CFR 0.141, 0.316 and 1.3, document DA 07-4178 is adopted.

The VON Coalition Petition, USTelecom Petition, and Hamilton Petition are granted in part, and denied in part, as set forth herein.

Federal Communications Commission.
Catherine W. Seidel,
Chief, Consumer and Governmental Affairs Bureau.

[FR Doc. E7-21525 Filed 10-31-07; 8:45 am]

BILLING CODE 6712-01-P